NUCLEAR REGULATORY COMMISSION

Advisory Committee on Reactor Safeguards (ACRS) Meeting of the Subcommittee on Digital Instrumentation and Control Systems; Notice of Meeting

The ACRS Subcommittee on Digital Instrumentation and Control Systems will hold a meeting on February 26-27, 2009, in Room T-2B3, Two White Flint North, 11545 Rockville Pike, Rockville, Maryland.

A portion of this meeting may be closed to discuss and protect information classified as National Security Information as well as Safeguards Information pursuant to 5 U.S.C. 552b(c)(1) and (3).

The agenda for the subject meeting shall be as follows:

Thursday, February 26, 2009—8:30 a.m., Until the Conclusion of Business; Friday, February 27, 2009—8:30 a.m., Until the Conclusion of Business

The Subcommittee will review Draft ISG-5 “Highly-Integrated Control Rooms—Human Factors Issues” on manual operator actions, Draft ISG-6 “Licensing Process” and Draft RG 5.71 “Cyber Security Programs for Nuclear Facilities.” In addition, the Subcommittee will discuss Draft NUREG/CR-xxxx, “Diversity Strategies for Nuclear Power Plant Instrumentation and Control Systems,” and operating experience insights on Common-Cause Failures and Benefits and Risks Associated with expanding Automated Diverse Actuation System Functions, and other related matters. The Subcommittee will hear presentations by and hold discussions with representatives of the NRC staff, Nuclear Energy Institute, and other interested persons regarding this matter. The Subcommittee will gather information, analyze relevant issues and facts, and formulate proposed positions and actions, as appropriate, for deliberation by the full Committee.

Members of the public desiring to provide oral statements and/or written comments should notify the Designated Federal Official, Ms. Christina Antonescu (telephone 301/415-6792) five days prior to the meeting, if possible, so that appropriate arrangements can be made. Electronic recordings will be permitted. Detail procedures for the conduct of and participation in ACRS meetings were published in the Federal Register on October 6, 2008, (73 FR 58268-58269)

Further information regarding this meeting can be obtained by contacting the Designated Federal Official between 7:15 a.m. and 5 p.m. (ET). Persons planning to attend this meeting are urged to contact the above named individual at least two working days prior to the meeting to be advised of any potential changes to the agenda.

Dated: February 3, 2009.
Antonio Dias,
Chief, Reactor Safety Branch B, Advisory Committee on Reactor Safeguards.

[FR Doc. E9-2622 Filed 2-6-09; 8:45 am]

BILLING CODE 7590-01-P